COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: 9/28/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/19/2015 (80 FR 35320-35321), 6/26/2015 (80 FR 36772) and (80 FR 36773-36774) and 7/2/2015 (80 FR 38179), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products:

NSN(s)—Product Name(s):

8465-00-NIB-0160—Vest, Physical Training, Name Tag Velcro, Blue, Large

8465-00-NIB-0161—Vest, Physical Training, Name Tag Velcro, Blue, XLarge

8465-00-NIB-0226—Vest, Physical Training, Name Tag Velcro, 3” White Reflective Vinyl Numbers, Blue, Large

8465-00-NIB-0227—Vest, Physical Training, Name Tag Velcro, 3” White Reflective Vinyl Numbers, Blue, XLarge

8465-00-NIB-0180—Vest, Physical Training, Name Tag Velcro, Yellow, Large

8465-00-NIB-0181—Vest, Physical Training, Name Tag Velcro, Yellow, XLarge

8465-00-NIB-0228—Vest, Physical Training, Name Tag Velcro, 3” White Reflective Vinyl Numbers, Yellow, Large

8465-00-NIB-0229—Vest, Physical Training, Name Tag Velcro, 3” White Reflective Vinyl Numbers, Yellow, XLarge

8465-00-NIB-0182—Vest, Physical Training, Name Tag Velcro, Orange, Large

8465-00-NIB-0183—Vest, Physical Training, Name Tag Velcro, Orange, XLarge

8465-00-NIB-0230—Vest, Physical Training, Name Tag Velcro, 3” White Reflective Vinyl Numbers, Orange, Large

8465-00-NIB-0231—Vest, Physical Training, Name Tag Velcro, 3” White Reflective Vinyl Numbers, Orange, XLarge

Mandatory Purchase For: Total Government Requirement

Mandatory Source of Supply: Georgia Industries for the Blind, Bainbridge, GA

Contracting Activity: Defense Logistics Agency Troop Support

Distribution: A-List

NSN(s)—Product Name(s): 8105-00-NIB-1412—Aquapad Sand-less Sandbag

Mandatory Source of Supply: Envision Industries, Inc., Wichita, KS

Mandatory Purchase For: Total Government Requirement

Contracting Activity: Defense Logistics Agency Troop Support, Construction & Equipment

Distribution: B-List

NSN(s)—Product Name(s): 8540-00-262-7178—Towel, Paper, Single-Fold, Natural, 9-1/4” W

Mandatory Purchase For: Total Government Requirement

Mandatory Source of Supply: The Lighthouse for the Blind in New Orleans, Inc., New Orleans, LA

Contracting Activity: General Services Administration, New York, NY

Distribution: A-List

Service:

Service Type: Laundry and Linen Service

Service Mandatory For: US Air Force, 2610 Pink Flamingo Avenue, MacDill AFB, FL

Mandatory Source of Supply: Goodwill Industries of South Florida, Inc., Miami, FL

Contracting Activity: Dept of the Air Force, FA4814 6 CONS LGCP, Tampa, FL

Barry S. Lineback,
Director, Business Operations.

[FR Doc. 2015-21363 Filed 8-27-15; 8:45 am]

BILLING CODE 6353-01-P